DEPARTMENT OF HEALTH AND HUMAN SERVICES

National Institutes of Health

Center for Scientific Review; Amended Notice of Meeting

Notice is hereby given of a change in the meeting of the Center for Scientific Review Special Emphasis Panel, February 24, 2011, 8 a.m. to February 25, 2011, 5 p.m., National Institutes of Health, 6701 Rockledge Drive, Bethesda, MD, 20892 which was published in the Federal Register on February 4, 2011, 76 FR 6486-6487.

The meeting will be held February 21, 2011 to February 22, 2011. The meeting time and location remain the same. The meeting is closed to the public.

Dated: February 9, 2011.
Jennifer S. Spaeth,
Director, Office of Federal Advisory Committee Policy.

[FR Doc. 2011-3372 Filed 2-14-11; 8:45 am]

BILLING CODE 4140-01-P